DEPARTMENT OF AGRICULTURE

Natural Resources Conservation Service

Broad Creek Watershed, Delaware

AGENCY: Natural Resources Conservation Service, USDA.

ACTION: Notice of intent to deauthorization of Federal funding.

SUMMARY: Pursuant to the Watershed Protection and Flood Prevention Act, Public Law 83-566, and the Natural Resources Conservation Service Guidelines (7 CFR part 622), the Natural Resources Conservation Service gives notice of the deauthorization of Federal funding for the Broad Creek Watershed project Sussex and Kent Counties, Delaware.

FOR FURTHER INFORMATION CONTACT: Jon F. Hall, State Conservationist, Natural Resources Conservation Service, 1221 College Park Drive, Suite 100, Dover, Delaware 19904, 302-678-4160.

Notice of Intent To Deauthorize Federal Funding

SUPPLEMENTARY INFORMATION: A determination has been made by Jon F. Hall, State Conservationist, Delaware Natural Resources Conservation Service, that the proposed works of improvement for the Broad Creek Watershed project will not be installed. The sponsoring local organizations have concurred in this determination and agree that Federal funding should be deauthorized for the project. Information regarding this determination may be obtained at the above address and telephone number.

No administrative action on implementation of the proposed deauthorization will be taken until 60 days after the date of this publication in the Federal Register.

Dated: September 12, 2005.
Jon F. Hall,
State Conservationist.
(Catalog of Federal Domestic Assistance Program No. 10.904, Watershed Protection and Flood Prevention. Office of Management and Budget Circular A-95 regarding State and local clearinghouse review of Federal and federally assisted programs and projects is applicable)

[FR Doc. 05-18702 Filed 9-19-05; 8:45 am]

BILLING CODE 3410-16-P